INTERNATIONAL TRADE COMMISSION

[Investiagation Nos. 701-TA-381-382 and 731-TA-797-804 (Review)]

Certain Stainless Steel Sheet and Strip From France, Germany, Italy, Japan, Korea, Mexico, Taiwan, and the United Kingdom

Determinations

On the basis of the record ¹ developed in the subject five-year reviews, the United States International Trade Commission (Commission) determines, pursuant to section 751(c) of the Tariff Act of 1930 (19 U.S.C. 1675(c)) (the Act), that revocation of the countervailing duty orders on stainless steel sheet and strip from Italy and Korea and that revocation of the antidumping duty orders on stainless steel sheet and strip from Germany, Italy, Japan, Korea, Mexico, and Taiwan would be likely to lead to continuation or recurrence of material injury to an industry in the United States within a reasonably foreseeable time.² The Commission further determines, pursuant to section 751(c) of the Act, that revocation of the antidumping duty orders on stainless steel sheet and strip from France and the United Kingdom would not be likely to lead to continuation or recurrence of material injury to an industry in the United States within a reasonably foreseeable time.³

¹ The record is defined in sec. 207.2(f) of the Commission's Rules of Practice and Procedure (19 CFR 207.2(f)).

² Vice Chairman Deanna Tanner Okun and Commissioner Daniel R. Pearson dissenting.

³ Chairman Stephen Koplan and Commissioner Charlotte R. Lane dissenting.

Background

The Commission instituted these reviews on June 1, 2004 (69 FR 3958), and determined on September 7, 2004, that it would conduct full reviews (69 FR 56460, September 21, 2004). Notice of the scheduling of the Commission's reviews and of a public hearing to be held in connection therewith was given by posting copies of the notice in the Office of the Secretary, U.S. International Trade Commission, Washington, DC, and by publishing the notice in the Federal Register on September 21, 2004 (69 FR 56460). The hearing was held in Washington, DC, on April 26, 2005, and all persons who requested the opportunity were permitted to appear in person or by counsel.

The Commission transmitted its determinations in these reviews to the Secretary of Commerce on July 12, 2005. The views of the Commission are contained in USITC Publication 3788 (July 2005), entitled Stainless Steel Sheet and Strip from France, Germany, Italy, Japan, Korea, Mexico, Taiwan, and the United Kingdom: Investigations Nos. 701-TA-381-382 and 731-TA-797-804 (Review).

By order of the Commission.
Dated: Issued July 12, 2005.
Marilyn R. Abbott,
Secretary to the Commission.

[FR Doc. 05-14045 Filed 7-15-05; 8:45 am]

BILLING CODE 7020-02-M